DEPARTMENT OF COMMERCE

National Institute of Standards and Technology

Agency Information Collection Activities, Submission for Office of Management and Budget (OMB) Review and Emergency Approval; Comment Request; CHIPS Full-Application Information Collection

The Department of Commerce will submit the following information collection request to the Office of Management and Budget (OMB) for emergency review and approval in accordance with the Paperwork Reduction Act of 1995, on or after the date of publication of this notice. We invite the general public and other Federal agencies to comment on proposed, and continuing information collections, which helps us assess the impact of our information collection requirements and minimize the public's reporting burden.

Agency: National Institute of Standards and Technology (NIST).

Title: CHIPS Full Application.

OMB Control Number: 0693-XXXX.

Form Number(s): N/A.

Type of Request: Emergency submission, New Information Collection Request.

Number of Respondents: 140 respondents.

Average Hours per Response: 125 hours.

Burden Hours: 17,500 hours.

Needs and Uses: Businesses and other entities applying for CHIPS Act funding under the CHIPS Incentive Program must submit a full application via a web portal at https://applications.chips.gov/. The full application includes a series of sections, each described below. It includes a project plan, supplemented by more detailed narrative and analytical sections that demonstrate how the application addresses each dimension of the merit review framework:

• Cover Page with general information;

• Covered Incentive—a letter from a state or local government entity to demonstrate that the applicant has been offered a qualifying covered incentive;

• Description of Projects—a detailed description of proposed project(s) in the application;

• Applicant Profile—descriptive information about the applicant;

• Alignment with Economic and National Security Objectives—a description of how the project(s) meets economic and national security objectives;

• Commercial Strategy—a description of the commercial strategy;

• Financial Information—a detailed description of the financial plan, including Microsoft Excel spreadsheets with financial models;

• Project Technical Feasibility—the applicant must demonstrate the technical feasibility of each proposed project;

• Organization Information

• Workforce Development Plan—Each applicant must document their expected workforce needs for their facility (including both construction and operations phases) and provide a strategy to meet such needs in a workforce development plan;

• Broader Impacts—Each applicant must provide an overview of the broader impacts of the proposed project(s); and

• Standard Forms—All applicants should submit standard forms as follows:

SF-328, Certificate Pertaining to Foreign Interests

CD-511, Certification Regarding Lobbying

SF-LLL, Disclosure of Lobbying Activities (if applicable)

• In addition, applicants will be informed during the application review process if these forms are required:

SF-424, Application for Federal Assistance

For the construction component of projects, the SF-424C and SF-424D

For the workforce development component of projects, as well as any operational activities, the SF-424A

Affected Public: Businesses and other entities applying for CHIPS Act funding.

Frequency: Once per application.

Respondent's Obligation: Mandatory to be eligible for CHIPS Act funding.

Legal Authority: CHIPS Act of 2022 (Division A of Pub. L. 117-167).

This information collection request may be viewed at www.reginfo.gov. Follow the instructions to view the Department of Commerce collections currently under review by OMB.

Written comments and recommendations for the proposed information collection should be submitted within on the following website www.reginfo.gov/public/do/PRAMain. Find this particular information collection by selecting “Currently under 30-day Review—Open for Public Comments” or by using the search function and entering the title of the collection. To ensure consideration, comments regarding this proposed information collection must be received on or before March 17, 2023.

Sheleen Dumas,
Department PRA Clearance Officer, Office of the Chief Information Officer, Commerce Department.

[FR Doc. 2023-04434 Filed 3-2-23; 8:45 am]

BILLING CODE 3510-60-P